DEPARTMENT OF COMMERCE

National Oceanic and Atmospheric Administration

50 CFR Part 665

[Docket No. 101210611-1185-02]

RIN 0648-BA58

Hawaii Bottomfish and Seamount Groundfish Fisheries; Modification of Fishery Closures

AGENCY: National Marine Fisheries Service (NMFS), National Oceanic and Atmospheric Administration (NOAA), Commerce.

ACTION: Final rule.

SUMMARY: This final rule changes the advance notification period for in-season closure of the main Hawaiian Islands (MHI) Deep-7 bottomfish fishery from 14 to 7 days. The intent of the change is to enhance administration of the fishery.

DATES: This final rule is effective April 20, 2011.

ADDRESSES: Copies of the Fishery Ecosystem Plan for the Hawaiian Archipelago are available from the Western Pacific Fishery Management Council (Council), 1164 Bishop St., Suite 1400, Honolulu, HI 96813, tel 808-522-8220, fax 808-522-8226, http://www.wpcouncil.org.

FOR FURTHER INFORMATION CONTACT: Jarad Makaiau, NMFS PIR Sustainable Fisheries, 808-944-2108.

SUPPLEMENTARY INFORMATION: The fishery for main Hawaiian Islands Deep 7 bottomfish is managed under a total allowable catch (TAC) limit. NMFS and the State of Hawaii monitor progress towards the TAC based on records of commercial bottomfish landings collected by the State. When bottomfish landings approach the TAC, NMFS, the State, and the Council determine the date the TAC is projected to be reached, and the commercial and non-commercial fisheries for Deep 7 bottomfish will be closed.

Federal regulations at 50 CFR 665.211 require NMFS to notify fishermen and the public of the date when the fisheries will close through a notice in the Federal Register and other means. This final rule changes the minimum required advance notification period from 14 to 7 days. The objective of this final rule is to enhance administration of the fishery by streamlining the advanced notification.

Additional background information on this final rule is found in the preamble to the proposed rule published on February 14, 2011 (76 FR 8330). Briefly, reducing the advance notification period for a closure of the Deep 7 bottomfish fishery will allow NMFS to more accurately determine the closure date, while still providing fishermen with sufficient notice of the impending closure. The comment period for the proposed rule ended on March 1, 2011, and NMFS did not receive any comments.

Changes From the Proposed Rule

There are no changes from the proposed rule in this final rule.

Classification

The Administrator, Pacific Islands Region, NMFS, determined that this final rule is necessary for the conservation and management of the Hawaii bottomfish fishery, and that it is consistent with the Magnuson-Stevens Fishery Conservation and Management Act and other applicable laws.

This final rule has been determined to be not significant for purposes of Executive Order 12866.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required and none was prepared.

List of Subjects in 50 CFR Part 665

Bottomfish, Fishing, Hawaii.

Dated: March 15, 2011.
John Oliver,
Deputy Assistant Administrator For Operations, National Marine Fisheries Service.

For the reasons set out in the preamble, 50 CFR part 665 is amended as follows:

PART 665—FISHERIES IN THE WESTERN PACIFIC

1. The authority citation for part 665 continues to read as follows:

Authority: 16 U.S.C. 1801 et seq.

2. In § 665.211, revise paragraph (c) to read as follows:

§ 665.211 Total allowable catch (TAC) limit.

* * * * *

(c) When the TAC limit specified in this section is projected to be reached based on analyses of available information, the Regional Administrator shall publish a notice to that effect in the Federal Register and shall use other means to notify permit holders. The notice will include an advisement that the fishery will be closed beginning at a specified date, which is not earlier than 7 days after the date of filing the closure notice for public inspection at the Office of the Federal Register, until the end of the fishing year in which the TAC is reached.

* * * * *

[FR Doc. 2011-6580 Filed 3-18-11; 8:45 am]

BILLING CODE 3510-22-P